DEPARTMENT OF AGRICULTURE

Forest Service

California Coast Provincial Advisory Committee

AGENCY: Forest Service, USDA.

ACTION: Notice of meeting.

SUMMARY: The California Coast Provincial Advisory Committee (CCPAC) will meet on July 25-26, 2007, in Eureka, California. The purpose of the meeting is to discuss issues relating to implementing the Northwest Forest Plan (NWFP).

DATES: The meeting will be a half day field trip from 12 p.m. to 3:30 p.m. on July 25, 2007 and a one day meeting from 8 a.m. to 3 p.m. on July 26, 2007.

ADDRESSES: July 25, 2007, is a half day field trip to the Head Waters Trail. Meet for the filed trip in Fortuna, California at the Park and Ride Parking Lot, Off Kenmar Exit, on Highway 101. On July 26, 2007, the meeting will be held at the Six Rivers National Forest, Supervisor's Office, 1330 Bayshore Way, Eureka, California.

FOR FURTHER INFORMATION CONTACT: Kathy Allen, Committee Coordinator, USDA, Six Rivers National Forest, 1330 Bayshore Way, Eureka, CA 95501 (707) 441-3557 kmallen@fs.fed.us.

SUPPLEMENTARY INFORMATION: Agenda topics to be covered on July 26, 2007, include: (1) Survey and Manage Update; (2) Aquatic Conservation Strategy Update; (3) Orleans Community Fuels Reduction Project Presentation; (4) Northern Spotted Owl Recovery Plan; (5) Managing Wilderness Areas; and (6) Marijuana Cultivation Presentation.

The meeting is open to the public. Public input opportunity will be provided and individuals will have the opportunity to address the Committee at that time.

Dated: July 13, 2007.
Tyrone Kelley,
Designated Federal Official.

[FR Doc. 07-3515 Filed 7-18-07; 8:45 am]

BILLING CODE 3410-11-M